DEPARTMENT OF HEALTH AND HUMAN SERVICES

National Institutes of Health

Center for Scientific Review; Amended Notice of Meeting

Notice is hereby given of a change in the meeting of the Center for Scientific Review Special Emphasis Panel, June 9, 2014, 9 a.m. to June 10, 2014, 5 p.m., National Institutes of Health, 6701 Rockledge Drive, Bethesda, MD 20892 which was published in the Federal Register on June 3, 2014, 79 FR 31956.

The meeting will be held on June 10, 2014 to June 11, 2014. The meeting time and location remain the same. The meeting is closed to the public.

Dated: June 3, 2014.
Michelle Trout,
Program Analyst, Office of Federal Advisory Committee Policy.

[FR Doc. 2014-13322 Filed 6-6-14; 8:45 am]

BILLING CODE 4140-01-P